DEPARTMENT OF TRANSPORTATION

Federal Aviation Administration

14 CFR Part 39

[Docket No. FAA-2014-0492; Directorate Identifier 2013-NM-134-AD; Amendment 39-18187; AD 2015-12-12]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F.28 Mark 0070 and 0100 airplanes. This AD was prompted by a report of two cases of heavy (hard to move) aileron control caused by aileron cables stuck in a clump of ice in the wheel bay. This AD requires installing drain tubes on the center wing rear spar. We are issuing this AD to prevent accumulated water near or on the aileron control cables, which could freeze and result in reduced control of the airplane.

DATES: This AD becomes effective July 24, 2015.

The Director of the Federal Register approved the incorporation by reference of a certain publication listed in this AD as of July 24, 2015.

ADDRESSES: You may examine the AD docket on the Internet at http://www.regulations.gov/#!docketDetail;D=FAA-2014-0492; or in person at the Docket Management Facility, U.S. Department of Transportation, Docket Operations, M-30, West Building Ground Floor, Room W12-140, 1200 New Jersey Avenue SE., Washington, DC.

For service information identified in this AD, contact Fokker Services B.V., Technical Services Dept., P.O. Box 1357, 2130 EL Hoofddorp, the Netherlands; telephone: +31 (0)88-6280-350; fax: +31 (0)88-6280-111; email: technicalservices@fokker.com; Internet http://www.myfokkerfleet.com. You may view this referenced service information at the FAA, Transport Airplane Directorate, 1601 Lind Avenue SW., Renton, WA. For information on the availability of this material at the FAA, call 425-227-1221. It is also available on the Internet at http://www.regulations.gov by searching for and locating Docket No. FAA-2014-0492.

FOR FURTHER INFORMATION CONTACT: Tom Rodriguez, Aerospace Engineer, International Branch, ANM-116, Transport Airplane Directorate, FAA, 1601 Lind Avenue SW., Renton, WA 98057-3356; telephone: 425-227-1137; fax: 425-227-1149.

SUPPLEMENTARY INFORMATION:

Discussion

We issued a notice of proposed rulemaking (NPRM) to amend 14 CFR part 39 by adding an AD that would apply Fokker Services B.V. Model F.28 Mark 0070 and 0100 airplanes. The NPRM published in the Federal Register on August 4, 2014 (79 FR 45137). The NPRM was prompted by a report of two cases of heavy (hard to move) aileron control caused by aileron cables stuck in a clump of ice in the wheel bay. The NPRM proposed to require installing drain tubes on the center wing rear spar. We are issuing this AD to prevent accumulated water near or on the aileron control cables, which could freeze and result in reduced control of the airplane.

The European Aviation Safety Agency (EASA), which is the Technical Agent for the Member States of the European Union, has issued EASA AD 2013-0140, dated July 12, 2013 (referred to after this as the Mandatory Continuing Airworthiness Information, or “the MCAI”), to correct an unsafe condition for all Fokker Services B.V. Model F.28 Mark 0070 and 0100 airplanes. The MCAI states:

Two cases have been reported of heavy aileron control caused by aileron cables stuck in a clump of ice in the wheel bay. Investigation results revealed that, in case of water accumulation on the top of the center wing torsion box inside the cabin (zones 171 and 172), the water drains through the existing drain holes/gaps in the web plates on top of the center wing rear spar. The water could then accumulate in the area where the aileron control cables are situated. With the freezing temperatures normally encountered during flight, ice accretion could occur near or even on the aileron control cables.

This condition, if not corrected, could result in reduced control of the aeroplane.

For the reasons described above, this [EASA] AD requires the installation of drain tubes on the center wing rear spar.

You may examine the MCAI in the AD docket on the Internet at http://www.regulations.gov/#!documentDetail;D=FAA-2014-0492-0002.

Comments

We gave the public the opportunity to participate in developing this AD. We received no comments on the NPRM (79 FR 45137, August 4, 2014) or on the determination of the cost to the public.

Conclusion

We reviewed the relevant data and determined that air safety and the public interest require adopting this AD as proposed except for minor editorial changes. We have determined that these minor changes:

• Are consistent with the intent that was proposed in the NPRM (79 FR 45137, August 4, 2014) for correcting the unsafe condition; and

• Do not add any additional burden upon the public than was already proposed in the NPRM (79 FR 45137, August 4, 2014).

Related Service Information Under 1 CFR Part 51

Fokker Services B.V. has issued Fokker Service Bulletin SBF100-51-021, dated April 23, 2013, including the following attachments:

• Fokker Parts List Local SB10051021-XU-B, Revision A, Sequence 1, dated April 10, 2013.

• Fokker Parts List Supply SB10051021-XU-B, Revision A, Sequence 1, dated April 10, 2013.

• Fokker Parts List Local SB10051021-XU-A, Revision B, Sequence 1, dated April 10, 2013.

• Fokker Parts List Supply SB10051021-XU-A, Revision B, Sequence 1, dated April 10, 2013.

• Fokker Manual Change Notification MCNM F100-160, dated April 23, 2013.

This service information is reasonably available because the interested parties have access to it through their normal course of business or by the means identified in the ADDRESSES section of this AD.

Costs of Compliance

We estimate that this AD affects 4 airplanes of U.S. registry.

We also estimate that it will take about 8 work-hours per product to comply with the basic requirements of this AD. The average labor rate is $85 per work-hour. Required parts will cost about $1,380 per product. Based on these figures, we estimate the cost of this AD on U.S. operators to be $8,240, or $2,060 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0492; or in person at the Docket Management Facility between 9 a.m. and 5 p.m., Monday through Friday, except Federal holidays. The AD docket contains this AD, the regulatory evaluation, any comments received, and other information. The street address for the Docket Operations office (telephone: 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-12-12 Fokker Services B.V.: Amendment 39-18187. Docket No. FAA-2014-0492; Directorate Identifier 2013-NM-134-AD.

(a) Effective Date

This AD becomes effective July 24, 2015.

(b) Affected ADs

None.

(c) Applicability

This AD applies to Fokker Services B.V. Model F.28 Mark 0070 and 0100 airplanes, certificated in any category, all serial numbers.

(d) Subject

Air Transport Association (ATA) of America Code 51, Standard Practices/Structures.

(e) Reason

This AD was prompted by a report of two cases of heavy (difficult to move) aileron control caused by aileron cables stuck in a clump of ice in the wheel bay. We are issuing this AD to prevent accumulated water near or on the aileron control cables, which could freeze and result in reduced control of the airplane.

(f) Compliance

Comply with this AD within the compliance times specified, unless already done.

(g) Modification

Within 36 months after the effective date of this AD, install water drain tubes on the center wing rear spar, in accordance with the Accomplishment Instructions of Fokker Service Bulletin SBF100-51-021, dated April 23, 2013, including the attachments identified in paragraphs (g)(1) through (g)(5) of this AD.

(1) Fokker Parts List Local SB10051021-XU-B, Revision A, Sequence 1, dated April 10, 2013.

(2) Fokker Parts List Supply SB10051021-XU-B, Revision A, Sequence 1, dated April 10, 2013.

(3) Fokker Parts List Local SB10051021-XU-A, Revision B, Sequence 1, dated April 10, 2013.

(4) Fokker Parts List Supply SB10051021-XU-A, Revision B, Sequence 1, dated April 10, 2013.

(5) Fokker Manual Change Notification MCNM F100-160, dated April 23, 2013.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone: 425-227-1137; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Fokker Services B.V.'s EASA Design Organization Approval (DOA). If approved by the DOA, the approval must include the DOA-authorized signature.

(i) Related Information

Refer to Mandatory Continuing Airworthiness Information (MCAI) EASA AD 2013-0140, dated July 12, 2013, for related information. This MCAI may be found in the AD docket on the Internet at http://www.regulations.gov/#!documentDetail;D=FAA-2014-0492-0002.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF100-51-021, dated April 23, 2013, including the attachments identified in paragraphs (j)(2)(i)(A) through (j)(2)(i)(E) of this AD.

(A) Fokker Parts List Local SB10051021-XU-B, Revision A, Sequence 1, dated April 10, 2013.

(B) Fokker Parts List Supply SB10051021-XU-B, Revision A, Sequence 1, dated April 10, 2013.

(C) Fokker Parts List Local SB10051021-XU-A, Revision B, Sequence 1, dated April 10, 2013.

(D) Fokker Parts List Supply SB10051021-XU-A, Revision B, Sequence 1, dated April 10, 2013.

(E) Fokker Manual Change Notification MCNM F100-160, dated April 23, 2013.

(ii) Reserved.

(3) For service information identified in this AD, contact Fokker Services B.V., Technical Services Dept., P.O. Box 1357, 2130 EL Hoofddorp, the Netherlands; telephone: +31 (0)88-6280-350; fax: +31 (0)88-6280-111; email: technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 10, 2015.
Michael Kaszycki,
Acting Manager, Transport Airplane Directorate, Aircraft Certification Service.

[FR Doc. 2015-14994 Filed 6-18-15; 8:45 am]

BILLING CODE 4910-13-P